DEPARTMENT OF DEFENSE

Department of the Navy

Reopening and Extending the Public Comment Period for the Notice of Intent To Prepare an Environmental Impact Statement for EA-18G Growler Airfield Operations at Naval Air Station Whidbey Island, Washington

AGENCY: Department of the Navy, DoD.

ACTION: Notice.

SUMMARY: The Department of the Navy (DoN) is reopening and extending the public scoping period for the notice of intent to prepare an Environmental Impact Statement (EIS) for EA-18G Growler Airfield Operations at Naval Air Station (NAS) Whidbey Island, Washington. This notice announces an extension of the public scoping period until January 31, 2014.

FOR FURTHER INFORMATION CONTACT: EA-18G EIS Project Manager (Code EV21/SS); Naval Facilities Engineering Command (NAVFAC) Atlantic, 6506 Hampton Boulevard, Norfolk, Virginia 23508.

SUPPLEMENTARY INFORMATION: On September 5, 2013 (78 FR 54635), the DoN published a notice of intent to prepare an EIS for EA-18G Growler Airfield Operations at NAS Whidbey Island, Washington and also announced public scoping meetings. DoN provided a 120-day public scoping period which ended on January 3, 2014. The original public scoping period was intended to avoid any complications or delays that could result from government shutdowns and the end of the calendar year.

This notice announces an extension of the public scoping period until January 31, 2014. Scoping comments may be submitted in writing to the EA-18G EIS Project Manager (Code EV21/SS); Naval Facilities Engineering Command (NAVFAC) Atlantic, 6506 Hampton Boulevard, Norfolk, Virginia 23508, or electronically via the project Web site (http://www.whidbeyeis.com). All written comments must be postmarked or received (online) by January 31, 2014, to ensure they become part of the official record.

Dated: January 14, 2014.
N.A. Hagerty-Ford,
Commander, Office of the Judge Advocate General, U.S. Navy, Federal Register Liaison Officer.

[FR Doc. 2014-00876 Filed 1-16-14; 8:45 am]

BILLING CODE 3810-FF-P